DEPARTMENT OF HOUSING AND URBAN DEVELOPMENT

[Docket No. FR-7092-N-35]

Privacy Act of 1974; System of Records

AGENCY: Office of Administration, HUD.

ACTION: Notice of a modified system of records.

SUMMARY: Under the Privacy Act of 1974, as amended, the Department of Housing and Urban Development (HUD), Office of Administration, Office of the Executive Secretariat (Exec Sec) is issuing a public notice of its intent to modify the Privacy Act system of records titled “Correspondence Tracking System (CTS)”. This system of records is being revised to make clarifying changes within: System Location, System Manager, Record Authority for Maintenance of the System, Purpose of the System, Categories of Individuals Covered by the System, Categories of Records in the System, Records Source Categories, Routine Uses of Records Maintained in the System, Retrieval of Records, and Retention and Disposal of Records, and make general updates to the remaining sections to accurately reflect management of the system of records in accordance with the Office of Management and Budget (OMB) Circular A108, Federal Agency Responsibilities for Review, Reporting, and Publication under the Privacy Act.

DATES: Comments will be accepted on or before September 4, 2024. This action shall be effective August 5, 2024. Routine uses will become effective on the date following the end of the comment period unless comments are received which result in a contrary determination.

ADDRESSES: You may submit comments, identified by docket number or by one of the following methods:

Federal e-Rulemaking Portal: http://www.regulations.gov. Follow the instructions provided on that site to submit comments electronically.

Fax: 202-619-8365.

Email: www.privacy@hud.gov.

Mail: Attention: Privacy Office; LaDonne White, Chief Privacy Officer; the Executive Secretariat; 451 Seventh Street SW, Room 10139, Washington, DC 20410-0001.

Instructions: All submissions received must include the agency name and docket number for this rulemaking. All comments received will be posted without change to http://www.regulations.gov. including any personal information provided.

Docket: For access to the docket to read background documents or comments received go to http://www.regulations.gov.

FOR FURTHER INFORMATION CONTACT: LaDonne White, the Privacy Office; 451 Seventh Street SW, Room 10139, Washington, DC 20410; telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: HUD, the Office of the Executive Secretariat (Exec Sec) maintains the Correspondence Tracking System (CTS) system. HUD is publishing this revised notice to reflect new and modified routine uses, and new source protocols implemented to support HUD's updates. Additionally, administrative updates are being added to the remaining SORN sections to reflect the system in its current state. The change to the system of records will have no undue impact on the privacy of individuals and updates will be consistent with the records collected.

The following are updates since the previous SORN publication:

1. System Number: Updated to classify new system of records number designation to alignment with HUD's system of records inventory.

2. System Manager: Updated to identify a new system manager.

3. Purpose of the System: Updated to apply non-substantive changes to identify system functions with clarity and conciseness for public awareness.

4. Categories of Individuals Covered: Updated to add existing system user groups and purpose the user group serves.

5. Records Source Categories: Updated, with record sources for internal and external systems, to cover all record sources for system programs.

6. Records Retention and Disposition: Updated to reflect current retention requirements.

7. Policy and Practice for Retrieval of Records: Updated to include minor changes and format.

SYSTEM NAME AND NUMBER:

Correspondence Tracking System (CTS), HUD/ADM-09.

SECURITY CLASSIFICATION:

Unclassified.

SYSTEM LOCATION:

HUD Headquarters location, 451 7th Street SW, Washington, DC 20410-0001.

SYSTEM MANAGER(S):

Juanita Johnson, System Manager, Office of Systems and Technology, 451 Seventh Street SW, Room 2242, Washington, DC 20410, telephone number (202) 402-5348.

AUTHORITY FOR MAINTENANCE OF THE SYSTEM:

Sections 2 and 7(d) of the Department of Housing and Urban Development Act of 1965, Public Law 89-174.

PURPOSE(S) OF THE SYSTEM:

CTS will allow users and management to track and report on correspondence throughout the workflow process. HUD uses information in CTS to provide appropriate responses to inquiries. CTS will streamline the collection of inquiries from the public regarding their requests for assistance with HUD funded programs.

CATEGORIES OF INDIVIDUALS COVERED BY THE SYSTEM:

Individuals who correspond with HUD's Secretary, Deputy Secretary, or Assistant Secretaries, Individuals whose correspondence has been referred by the White House, other federal agencies, or Members of Congress to the Secretary or Deputy Secretary.

CATEGORIES OF RECORDS IN THE SYSTEM:

Correspondence: name, home address, email address(es), home telephone number(s), work telephone number(s), legal documents and records, requesters, attorneys or representatives' names, fax number, office information, case identifier.

RECORD SOURCE CATEGORIES:

Records are provided by individuals.

ROUTINE USES OF RECORDS MAINTAINED IN THE SYSTEM, INCLUDING CATEGORIES OF USERS AND PURPOSES OF SUCH USES:

(1) To a congressional office from the record of an individual, in response to an inquiry from the congressional office made at the request of that individual.

(2) To contractors, grantees, experts, consultants and their agents, or others performing or working under a contract, service, grant, or cooperative agreement with HUD, when necessary to accomplish an agency function related to a system of records. Disclosure requirements are limited to only those data elements considered relevant to accomplishing an agency function. Contractors provided information under these routine use conditions are subject to Privacy Act requirements and disclosure limitations imposed on the Department.

(3) To contractors, experts, and consultants with whom HUD has a contract, service agreement, or other assignment of the Department, when necessary to utilize data to test new technology and systems designed to enhance program operations and performance.

(4) To appropriate agencies, entities, and persons when (1) HUD suspects or has confirmed there has breached the system of records; (2) HUD has determined that because of the suspected or confirmed breach there is a risk of harm to individuals, HUD (including its information systems, programs, and operations), the Federal Government, or national security; and (3) the disclosure made to such agencies, entities, and persons is reasonably necessary to assist in connection with HUD's efforts to respond to the suspected or confirmed breach or to prevent, minimize, or remedy such harm.

(5) To another Federal agency or Federal entity, when HUD determines that information from this system of record is reasonably necessary to assist the recipient agency or entity in (1) responding to a suspected or confirmed breach or (2) preventing, minimizing, or remedying the risk of harm to individuals, the recipient agency or entity (including its information systems, programs, and operations), the Federal government, or national security resulting from a suspected or confirmed breach.

(6) To appropriate Federal, State, local, tribal, or other governmental agencies or multilateral governmental organizations responsible for investigating or prosecuting the violations of, or for enforcing or implementing, a statute, rule, regulation, order, or license, where HUD determines that the information would assist in the enforcement of civil or criminal laws and when such records, either alone or in conjunction with other information, indicate a violation or potential violation of law.

(7) To a court, magistrate, administrative tribunal, or arbitrator in the course of presenting evidence, including disclosures to opposing counsel or witnesses in the course of civil discovery, litigation, mediation, or settlement negotiations, or in connection with criminal law proceedings; when HUD determines that use of such records is relevant and necessary to the litigation and when any of the following is a party to the litigation or have an interest in such litigation: (1) HUD, or any component thereof; or (2) any HUD employee in his or her official capacity; or (3) any HUD employee in his or her individual capacity where HUD has agreed to represent the employee; or (4) the United States, or any agency thereof, where HUD determines that litigation is likely to affect HUD or any of its components.

(8) To any component of the Department of Justice or other Federal agency conducting litigation or in proceedings before any court, adjudicative, or administrative body, when HUD determines that the use of such records is relevant and necessary to the litigation and when any of the following is a party to the litigation or have an interest in such litigation: (1) HUD, or any component thereof; or (2) any HUD employee in his or her official capacity; or (3) any HUD employee in his or her individual capacity where the Department of Justice or agency conducting the litigation has agreed to represent the employee; or (4) the United States, or any agency thereof, where HUD determines that litigation is likely to affect HUD or any of its components.

(9) To the National Archives and Records Administration, Office of Government Information Services (OGIS), to the extent necessary to fulfill its responsibilities in 5 U.S.C. 552(h), to review administrative agency policies, procedures, and compliance with the Freedom of Information Act (FOIA), and to facilitate OGIS' offering of mediation services to resolve disputes between persons making FOIA requests and administrative agencies.

POLICIES AND PRACTICES FOR STORAGE OF RECORDS:

Electronic and Paper.

POLICIES AND PRACTICES FOR RETRIEVAL OF RECORDS:

Name and case number.

POLICIES AND PRACTICES FOR RETENTION AND DISPOSAL OF RECORDS:

Destroyed upon verification of successful creation of the final document or file or when no longer needed for business use, whichever is later.

ADMINISTRATIVE, TECHNICAL, AND PHYSICAL SAFEGUARDS:

For Electronic Records: All personal data will be maintained on a secure workstation or virtual server that is protected by a firewall and complex passwords in a directory that can only be accessed by the system administrators and the analysts actively working on the data; the system used to process or store data have Federal security controls applied to them; the data will be backed up on a regular basis to safeguard against system failures or disasters; and, unencrypted data will not be stored on a laptop or on removable media such as CDs, diskettes, or USB flash drives. Electronic Records are maintained and stored in an electronic encryption database system. These records can only be accessed based on the user's rights and privileges to the system. A multifactor identification method is required which consists of the several layers of security to access the records, such as a valid common access card, access to HUD's network with a valid User ID and password.

For Paper Records: The analysts will securely store any hard copy forms with personal identifiers until they are archived; all hard copy forms with personal identifying data will be stored securely in a locked cabinet that can only be accessed by authorized individuals working on the data.

RECORD ACCESS PROCEDURES:

Individuals requesting records of themselves should address written inquiries to the Department of Housing and Urban Development 451 7th Street SW, Washington, DC 20410-0001. For verification, individuals should provide their full name, current address, and telephone number. In addition, the requester must provide either a notarized statement or an unsworn declaration made under 24 CFR 16.4.

CONTESTING RECORD PROCEDURES:

The HUD rule for contesting the content of any record pertaining to the individual by the individual concerned is published in 24 CFR 16.8 or may be obtained from the system manager.

NOTIFICATION PROCEDURES:

Individuals requesting notification of records of themselves should address written inquiries to the Department of Housing Urban Development, 451 7th Street SW, Washington, DC 20410-0001. For verification purposes, individuals should provide their full name, office or organization where assigned, if applicable, and current address and telephone number. In addition, the requester must provide either a notarized statement or an unsworn declaration made under 24 CFR 16.4.

EXEMPTIONS PROMULGATED FOR THE SYSTEM:

None.

HISTORY:

Docket Citation: 72 FR-55801 (October 1, 2007).

LaDonne White,
Chief Privacy Officer, Office of Administration.

[FR Doc. 2024-17181 Filed 8-2-24; 8:45 am]

BILLING CODE 4210-67-P